DEPARTMENT OF DEFENSE

Department of Navy

Notice of Availability of Government-Owned Inventions; Available for Licensing

AGENCY: Department of the Navy, DoD.

ACTION: Notice.

SUMMARY: The inventions listed below are assigned to the United States Government as represented by the Secretary of the Navy and are available for licensing by the Department of the Navy. U.S. Patent Number 5,520,331 entitled “Liquid Atomizing Nozzle”, Navy Case Number 75983, Inventor Wolfe, Issue date May 28, 1996. U.S. Patent Number 5,958,857 entitled “Thixotropic low-solvent, non-hap wheel well cleaner”, Navy Case Number 77564, Inventors Bevilacqua et al, Issue date September 28, 1999. Navy Case Number 96334 entitled “Radially Compressive Rope Assembly”, Inventor Kijesky, U.S. Patent Application Number 11/845,684 filed on January 26, 2006. Navy Case Number 96341 entitled “Non-Chromium post-treatment for aluminum coated steel”, Inventors Matzdorf et al, U.S. Patent Application Number 11/268,405 filed on November 01, 2005. Navy Case Number 96342 entitled “Non-Chromium Coatings for Aluminum”, Inventors Matzdorf et al, U.S. Patent Application Number 11/268,404 filed on November 01, 2005. U.S. Patent Number 6,239,725 entitled “Passive visual system and method for use thereof for aircraft guidance”, Navy Case Number 82248, Inventor Bray, Issue date May 29, 2001. Navy Case Number 96345 entitled Non-Chromium Conversion Coating for Ferrous Alloys”, Inventors Matzdorf et al, U.S. Patent Application Number 11/268,406 filed on November 01, 2005. Navy Case Number 97473 entitled “Oleaginous Corrosion and Mildew-Inhibiting Composition”, Inventors Arafat et al, U.S. Patent Application Number 11/325,283 filed on December 20, 2005. Navy Case Number 97567 entitled “Corrosion Inhibiting Mildew Remover Kit”, Inventors Roser et al, U.S. Patent Application Number 11/345,686 filed on January 26, 2006. Navy Case Number 97798 entitled “Global Visualization Process for Personal Computer Platforms (GVP+), Inventors Gatewood et al, U.S. Patent Application Number 11/296,723 filed on December 06, 2005. U.S. Patent Number 6,241,164 entitled “Effervescent liquid fine mist apparatus and method”, Navy Case Number 82406, Inventor Wolfe, Issue date June 05, 2001.

U.S. Patent Number 6,625,510 entitled “Computer-based tool management documentation system”, Navy Case Number 82247, Inventors Kimball et al, Issue date September 23, 2003.

ADDRESSES: Request for data and inventor interviews should be director to Mr. Paul Fritz, Naval Air Warfare Center Aircraft Division, Business Development Office, Office of Research and Technology Applications, Building 304; Room 107, 22541 Millstone Road, Patuxent River, MD 20670, 301-342-5586 or e-Mail Paul.Fritz@navy.mil.

DATES: Request for data, samples, and inventor interviews should be made prior to June 30, 2006.

FOR FUTHER INFORMATION CONTACT: Mr. Hans Kohler, Office of Research and Technology Applications, Building 150/2, Naval Air Warfare Center Aircraft Div, Lakehurst, NJ 08733-5060, 732-323-2948, Hans.Kohler@navy.mil or Mr. Paul Fritz, Office of Research and Technology Applications, Building 304; Room 107, Naval Air Warfare Center Aircraft Div, 22541 Millstone Rd, Patuxent River, MD 20670, 301-342-5586, Paul.Fritz@navy.mil.

SUPPLEMENTARY INFORMATION: The U.S. Navy intends to move expeditiously to license these inventions. All licensing application packages and commercialization plans must be returned to Naval Air Warfare Center Aircraft Division, Business Development Office, Office of Research and Technology Applications, Building 304; Room 107, 22541 Millstone Road, Patuxent River, MD 20670.

The Navy, in its decisions concerning the granting of licenses, will give special consideration to existing licensee's, small business firms, and consortia involving small business firms. The Navy intends to ensure that its licensed inventions are broadly commercialized throughout the United States.

PCT application may be filed for each of the patents as noted above. The Navy intends that licensees interested in a license in territories outside of the United States will assume foreign prosecution and pay the cost of such prosecution.

(Authority: 35 U.S.C. 207, 37 CFR Part 404)

Dated: March 6, 2006.
Eric McDonald,
Lieutenant Commander, Judge Advocate General's Corps, U. S. Navy, Federal Register Liaison Officer.

[FR Doc. E6-3549 Filed 3-13-06; 8:45 am]

BILLING CODE 3810-FF-P